SMALL BUSINESS ADMINISTRATION

[Declaration of Disaster #3253]

State of California

Los Angeles County and the contiguous counties of Kern, Orange, San Bernardino, and Ventura in the State of California constitute a disaster area as a result of severe storms that occurred on April 18, 2000. Applications for loans for physical damage as a result of this disaster may be filed until the close of business on July 10, 2000 and for economic injury until the close of business on February 9, 2001 at the address listed below or other locally announced locations: U.S. Small Business Administration, Disaster Area 4 Office, P.O. Box 13795, Sacramento, CA 95853-4795.

The interest rates are:

For Physical Damage

Homeowners with credit available elsewhere: 7.625%

Homeowners without credit available elsewhere: 3.812%

Businesses with credit available elsewhere: 8.000%

Businesses and non-profit organizations without credit available elsewhere: 4.000%

Others (including non-profit organizations) with credit available elsewhere: 6.750%

For Economic Injury

Businesses and small agricultural cooperatives without credit available elsewhere: 4.000%

The numbers assigned to this disaster are 325311 for physical damage and 9H3200 for economic injury.

(Catalog of Federal Domestic Assistance Program Nos. 59002 and 59008)
Dated: May 9, 2000.
Kris Swedin,
Acting Administrator.

[FR Doc. 00-12692 Filed 5-19-00; 8:45 am]

BILLING CODE 8025-01-P